DEPARTMENT OF HEALTH AND HUMAN SERVICES

Centers for Disease Control and Prevention

[30 Day-08-07BO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-6974. Written comments should be received within 30 days of this notice.

Proposed Project

State of Pennsylvania Fire and Life Safety Public Education Survey—New—Division of Unintentional Injury, National Center for Injury Prevention and Control (NCIPC), Centers for Disease Control and Prevention (CDC).

Background and Brief Description

This project will involve conducting a statewide survey of Pennsylvania fire departments to identify current fire and life safety education programs, resources, and training needs. Survey findings will be used to develop an inventory of programs and resources, and to inform Pennsylvania's fire and life safety educators during future training programs. In the United States each year, there are approximately 400,000 residential fires, with 14,000 non-fatal and 3,000 fatal civilian injuries. The National Center of Injury Prevention and Control (NCIPC), in line with Healthy People 2010 objectives, work to reduce and eliminate non-fatal and fatal injuries from residential fires.

The survey will be conducted with fire departments in Pennsylvania. The 2007 National Directory of Fire Chiefs & EMS Administrators lists all fire departments in Pennsylvania along with their contact information. A stratified random sampling strategy will be used to generate a study sample that includes all career and combination (career/volunteer) fire departments and a proportion of all volunteer fire departments. An initial mailing will be sent to the current postal addresses and existing e-mail addresses of selected fire departments' Fire Chiefs. This mailing will include a brief description of the study and instructions on how to submit the survey. Fire departments will be asked to participate in a 35-item survey. Completed surveys will be returned either on-line, through the mail, or by fax. Non-responding fire departments will be telephoned to confirm receipt of the survey and to encourage participation. The telephone script for this group is approximately 3 minutes. It is estimated that 260 out of the 654 initially contacted fire departments will complete the 30 minute survey, which is designed to collect information on the scope and content of educational programs and activities, training needs, and barriers to fire and life safety education.

There are no costs to respondents except for their time to participate in the surveys.

The total estimated annualized burden hours are 163.

Estimated Annualized Burden Hours
Respondents | Form name | Number of respondents | Number of responses per respondent | Average burden per response (in hours)
Pennsylvania Fire Chiefs | Telephone Script/ Follow-up | 654 | 1 | 3/60
| Pennsylvania Fire and Life Safety Education Survey | 260 | 1 | 30/60

Dated: March 28, 2008.
Maryam I. Daneshvar,
Acting Reports Clearance Officer, Centers for Disease Control and Prevention.

[FR Doc. E8-6894 Filed 4-2-08; 8:45 am]

BILLING CODE 4163-18-P